DEPARTMENT OF TRANSPORTATION

National Highway Traffic Safety Administration

49 CFR Part 571

[Docket No. NHTSA-2016-0087]

RIN 2127-AK92

Federal Motor Carrier Safety Administration

49 CFR Part 393

[Docket No. FMCSA-2014-0083]

RIN 2126-AB63

Federal Motor Vehicle Safety Standards; Federal Motor Carrier Safety Regulations; Parts and Accessories Necessary for Safe Operation; Speed Limiting Devices

AGENCY: National Highway Traffic Safety Administration (NHTSA) and Federal Motor Carrier Safety Administration (FMCSA), Department of Transportation.

ACTION: Extension of comment period.

SUMMARY: NHTSA and FMCSA have received requests to extend the comment period for their proposal that would require vehicles with a gross vehicle weight rating of more than 11,793.4 kilograms (26,000 pounds) to be equipped with a speed limiting device and that such device be maintained for the service life of the vehicle. In the proposal, NHTSA and FMCSA established a deadline for the submission of written comments of November 7, 2016. The Agencies have also received a letter opposing any extension of the comment period. To ensure that all interested parties have a sufficient amount of time to fully develop their comments, the Agencies are extending the deadline for the submission of written comments on the proposal, including comments on the Preliminary Regulatory Impact Analysis and Initial Regulatory Flexibility Analysis and Draft Environmental Assessment accompanying the proposal, by 30 days.

DATES: Written comments must be received by December 7, 2016.

ADDRESSES: You may submit comments, identified by one or both of the docket numbers in the heading of this document, by any of the following methods:

• Federal eRulemaking Portal: Go to http://www.regulations.gov. Follow the online instructions for submitting comments.

• Mail: Docket Management Facility, M-30, U.S. Department of Transportation, West Building, Ground Floor, Rm. W12-140, 1200 New Jersey Avenue SE., Washington, DC 20590.

• Hand Delivery or Courier: West Building Ground Floor, Room W12-140, 1200 New Jersey Avenue SE., between 9 a.m. and 5 p.m. Eastern Time, Monday through Friday, except Federal holidays.

• Fax: (202) 493-2251.

Instructions: For detailed instructions on submitting comments and additional information on the rulemaking process, see the discussion under the Public Participation heading of the September 7, 2016 notice of proposed rulemaking (81 FR 61942). Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT:

NHTSA: For technical issues, you may contact Mr. Wayne McKenzie, Office of Crash Avoidance Standards, Telephone: (202) 366-4000. Facsimile: (202) 366-7002. For legal issues, you may contact Mr. David Jasinski, Office of Chief Counsel, Telephone (202) 366-2992. Facsimile: (202) 366-3820. You may send mail to these officials at: The National Highway Traffic Safety Administration, Attention: NVS-010, 1200 New Jersey Avenue SE., Washington, DC 20590.

FMCSA: For technical issues, you may contact Mr. Michael Huntley, Vehicle and Roadside Operations, Telephone (202) 366-5370. Facsimile: (202) 366-8842. For legal issues, you may contact Mr. Charles Medalen, Office of Chief Counsel, Telephone (202) 366-1354. Facsimile: (202) 366-3602. You may send mail to these officials at: The Federal Motor Carrier Safety Administration, Attention: MC-PSV, 1200 New Jersey Avenue SE., Washington, DC 20590.

SUPPLEMENTARY INFORMATION: On September 7, 2016, NHTSA and FMCSA published a notice of proposed rulemaking (NPRM) proposing regulations that would require vehicles with a gross vehicle weight rating of more than 11,793.4 kilograms (26,000 pounds) to be equipped with a speed limiting device initially set to a speed no greater than a speed to be specified in a final rule and would require motor carriers operating such vehicles in interstate commerce to maintain functional speed limiting devices set to a speed no greater than a speed to be specified in the final rule for the service life of the vehicle.

The American Trucking Associations (ATA) (with the support of the Commercial Vehicle Safety Alliance), the EMA Truck & Engine Manufacturers Association (EMA) and the Owner Operator Independent Drivers Association (OOIDA) have requested that NHTSA and FMCSA extend the public comment period beyond the November 7, 2016 date specified in the NPRM. The ATA and EMA requested a 30-day extension. In support of its request, ATA states that the proposal differs significantly from its initial petition for rulemaking in a number of areas, and additional time is needed to confer with its membership on these issues. EMA states that at least 30 additional days is needed to more thoroughly analyze the issues in order to develop detailed and complete comments.

The OOIDA requested a 60-day extension of the comment period. In support of its request, OOIDA states that it will take a considerable amount of time and resources to develop meaningful comments from its members, many of which are on the road and away from home upwards of 250 days a year.

NHTSA and FMCSA have also received a letter signed by a number of safety advocacy groups and individuals opposing any extension of the comment period. The letter states that in the 10 years since the petitions for rulemaking were initially filed, truck crashes and fatalities have increased at rates faster than overall crashes and fatalities, and that additional time for comment is not necessary and would further delay issuance of a final rule implementing the proposal.

In considering the requests to extend the public comment period and the letter opposing any extension, NHTSA and FMCSA weighed the complexity and importance of this rulemaking and the rationale provided in support of each position. We have determined that there is good cause to grant the requests to extend the comment period, and have decided to extend the comment period for an additional 30 days. The extension is in the public interest since it will provide the public additional time to prepare and submit useful technical information and comments that should benefit Agency decision-making in this rulemaking action. Accordingly, NHTSA and FMCSA will extend the period for the submission of written comments in this proceeding to December 7, 2016. In addition, NHTSA and FMCSA are extending the comment period for the Preliminary Regulatory Impact Analysis and Initial Regulatory Flexibility Analysis and the Draft Environmental Assessment, which have been placed in the rulemaking docket, until December 7, 2016 as well.¹

¹ A notice of availability of the Draft Environmental Assessment specifically seeking comment on the Draft Environmental Assessment was published in the Federal Register on September 29, 2016. See 81 FR 67056.

Issued pursuant to authority delegated in 49 CFR 1.81 and 1.95 on: November 2, 2016.
Raymond R. Posten,
Associate Administrator for Rulemaking, National Highway Traffic Safety Administration.
Issued pursuant to authority delegated in 49 CFR 1.81 and 1.87.
Larry W. Minor,
Associate Administrator for Policy, Federal Motor Carrier Safety Administration.

[FR Doc. 2016-26816 Filed 11-4-16; 8:45 am]

BILLING CODE 4910-59-P